DEPARTMENT OF COMMERCE

National Oceanic and Atmospheric Administration

RIN 0648-XC523

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Scientific and Statistical Committee (SSC) will hold a public meeting.

DATES: The meeting will be held on Wednesday, March 20, 2013 from 9 a.m. to 5 p.m.

ADDRESSES: The meeting will be held via webinar with a telephone-only connection option. Details on webinar registration and the telephone-only connection details are available at: http://www.mafmc.org.

Council address: Mid-Atlantic Fishery Management Council, 800 North State Street, Suite 201, Dover, DE 19901; telephone: (302) 674-2331.

FOR FURTHER INFORMATION CONTACT: Christopher M. Moore, Ph.D., Executive Director, Mid-Atlantic Fishery Management Council, 800 North State Street, Suite 201, Dover, DE 19901; telephone: (302) 674-2331, extension 255.

SUPPLEMENTARY INFORMATION: Agenda items to be discussed include: (1) Review of Tilefish Industry AP Performance Report, (2) review information relevant to 2013-2014 Tilefish ABC recommendations, (3) SUN Subcommittee update on signpost development for multi-year ABC specifications, (4) MAFMC research priorities, and (5) SSC species lead assignments for 2013.

Special Accommodations

The meeting is physically accessible to people with disabilities. Requests for sign language interpretation or other auxiliary aids should be directed to M. Jan Saunders at the Mid-Atlantic Council Office, (302) 526-5251, at least 5 days prior to the meeting date.

Dated: February 26, 2013.
Tracey L. Thompson,
Acting Deputy Director, Office of Sustainable Fisheries, National Marine Fisheries Service.

[FR Doc. 2013-04775 Filed 2-28-13; 8:45 am]

BILLING CODE 3510-22-P